DEPARTMENT OF HEALTH AND HUMAN SERVICES

Administration for Children and Families

Child Support Enforcement Program Quarterly Financial Report (OCSE-396) and Quarterly Collection Report (OCSE-34) (OMB #0970-0510)

AGENCY: Office of Child Support Enforcement, Administration for Children and Families, HHS.

ACTION: Request for public comment.

SUMMARY: The Administration for Children and Families (ACF) is requesting public comment on the following forms: OCSE-34 “Child Support Enforcement Program Quarterly Collection Report” and OCSE-396 “Child Support Enforcement Program Quarterly Financial Report.” These forms are currently approved under the ACF Generic Clearance for Financial Reports (OMB #0970-0510; expiration June 30, 2024). There are no changes requested to the forms, but the instructions have been updated to address comments received in response to a notice published in the Federal Register and update burden hours.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to infocollection@acf.hhs.gov. All requests should be identified by the title of the information collection.

SUPPLEMENTARY INFORMATION: Description: Form OCSE-396 and Form OCSE-34 are financial reports submitted following the end of each fiscal quarter by grantees administering the Child Support Enforcement Program in accordance with plans approved under title IV-D of the Social Security Act. Submission of these forms enables grantees to meet their statutory and regulatory requirement to report program expenditures and child support collections, respectively, from the previous fiscal quarter.

States use Form OCSE-396 to report quarterly expenditures made in the previous quarter and to estimate program expenditures to be made and the incentive payments to be earned in the upcoming quarter. ACF provides federal funding to states for the Child Support Enforcement Program at the rate of 66 percent for all allowable and legitimate administrative costs of this program. States use Form OCSE-34 to report quarterly collections made under Title IV-D of the Social Security Act.

Tribes use OMB Form SF-425 to report quarterly expenditures made in the previous quarter. Form SF-425 is approved under OMB #4040-0014 and is not included as part of this comment request.

ACF made updates to the instructions and burden estimates, in response to comments received in response to a notice published in the Federal Register (86 FR 14756).

Respondents: Fifty-four states (including Puerto Rico, Guam, the Virgin Islands, and the District of Columbia) complete Forms OCSE-396 and OCSE-34. Approximately 60 tribes complete Form OCSE-34.

Annual Burden Estimates
Instrument | Total number of respondents | Annual number of responses per respondent | Average burden hours per response | Annual burden hours
Form OCSE-396 | 54 | 4 | 14 | 3,024
Form OCSE-34 | 114 | 4 | 14 | 6,384

Estimated Total Annual Burden Hours: 9,408.

Mary B. Jones,
ACF/OPRE Certifying Officer.

[FR Doc. 2021-24448 Filed 11-8-21; 8:45 am]

BILLING CODE 4184-41-P